DEPARTMENT OF LABOR

Employment and Training Administration

[TA-W-59,790]

Premier Turbines; Division of Dallas Airmotive, Inc.; Neosho, MO; Dismissal of Application for Reconsideration

Pursuant to 29 CFR 90.18(C) an application for administrative reconsideration was filed with the Director of the Division of Trade Adjustment Assistance for workers at Premier Turbines, Division of Dallas Airmotive, Inc., Neosho, Missouri. The application did not contain new information supporting a conclusion that the determination was erroneous, and also did not provide a justification for reconsideration of the determination that was based on either mistaken facts or a misinterpretation of facts or of the law. Therefore, dismissal of the application was issued.

TA-W-59,790; Premier Turbines, Division of Dallas Airmotive, Inc., Neosho, Missouri, (September 26, 2006).

Signed at Washington, DC, this 29th day of September 2006.
Linda G. Poole,
Certifying Officer, Division of Trade Adjustment Assistance.

[FR Doc. E6-17108 Filed 10-13-06; 8:45 am]

BILLING CODE 4510-30-P